DEPARTMENT OF TRANSPORTATION

Federal Aviation Administration

14 CFR Part 71

[Docket No. FAA-2016-9374; Airspace Docket No. 16-AGL-23]

Modification of VOR Federal Airways V-55, V-63, V-177, V-228, and V-246 in the Vicinity of Stevens Point, WI

AGENCY: Federal Aviation Administration (FAA), DOT.

ACTION: Final rule.

SUMMARY: This action modifies five VHF Omnidirectional Range (VOR) Federal airways in the vicinity of Stevens Point, WI. The FAA is taking this action due to the planned decommissioning of the Stevens Point, WI (STE), VHF Omnidirectional Range/Tactical Air Navigation (VORTAC) navigation aid (NAVAID) which provides navigation guidance for portions of the ATS routes amended by this action. This action will enhance the safe and efficient management of aircraft in the Stevens Point, WI, area.

DATES: Effective date 0901 UTC, August 17, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Colby Abbott, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the National Airspace System (NAS) route structure as necessary to preserve the safe and efficient flow of air traffic within the NAS.

History

On February 27, 2017, the FAA published in the Federal Register a notice of proposed rulemaking (NPRM) (82 FR 11857), Docket No. FAA-2016-9374, to amend VOR Federal airways V-55, V-63, V-177, V-228, and V-246 due to the planned decommissioning of the Stevens Point, WI, VORTAC. Interested parties were invited to participate in this rulemaking effort by submitting written comments on the proposal. No comments were received.

VOR Federal airways are published in paragraph 6010(a) of FAA Order 7400.11A, dated August 3, 2016, and effective September 15, 2016, which is incorporated by reference in 14 CFR 71.1. The VOR Federal airways listed in this document will be subsequently published in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

Differences From the NPRM

In the NPRM, the FAA proposed to remove the V-177 airway segment between the Madison, WI (MAD), VOR/DME and the Wausau, WI (AUW), VORTAC. That proposed amendment incorrectly listed the intended Madison, WI, NAVAID with the identifier “MAD” and as a VOR/DME. However, the NAVAID identifier “MAD” identifies the Madison, CT, VOR/DME. The correct identifier and NAVAID type for the intended Madison, WI, NAVAID is “MSN” and “VORTAC”. The corrected V-177 amendment is to remove the airway segment between the Madison, WI (MSN), VORTAC and the Wausau, WI (AUW), VORTAC.

The Rule

The FAA is amending Title 14, Code of Federal Regulations (14 CFR) part 71 to modify the descriptions of VOR Federal airways V-55, V-63, V-177, V-228, and V-246 due to the planned decommissioning of the Stevens Point, WI, VORTAC. The route changes are described below.

V-55: V-55 extends between the Dayton, OH, VOR and the Bismarck, ND, VOR. The airway segment between the intersection of the Green Bay, WI, VORTAC 270° and Oshkosh, WI, VORTAC 339° radials (the BIPID fix) and the Eau Claire, WI, VORTAC is removed. The unaffected portions of the airway remain as charted.

V-63: V-63 extends between the Bowie, TX, VORTAC and the Houghton, MI, VOR/DME. The airway segment between the Oshkosh, WI, VORTAC and the Wausau, WI, VORTAC is removed. The unaffected portions of the airway remain as charted.

V-177: V-177 extends between the Joliet, IL, VORTAC and the Ely, MN, VOR/DME. The airway segment between the Madison, WI, VORTAC and the Wausau, WI, VORTAC is removed. The unaffected portions of the airway remain as charted.

V-228: V-228 extends between the Stevens Point, WI, VORTAC and the Gipper, MI, VORTAC. The airway segment between the Stevens Point, WI, VORTAC and the Dells, WI, VORTAC is removed. The unaffected portions of the airway remain as charted.

V-246: V-246 extends between the Janesville, WI, VOR/DME and Stevens Point, WI, VORTAC. The airway segment between the intersection of the Nodine, MN, VORTAC 055° and Eau Claire, WI, VORTAC 134° radials (the MILTO fix) and the Stevens Point, WI, VORTAC is removed. The unaffected portions of the airway remain as charted.

All radials in the route descriptions below are stated relative to True north.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying five VOR Federal airways qualifies for categorical exclusion under the National Environmental Policy Act and its implementing regulations at 40 CFR part 1500, and in accordance with FAA Order 1050.1F, Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to cause any potentially significant environmental impacts. In accordance with FAA Order 1050.1F, paragraph 5-2 regarding Extraordinary Circumstances, The FAA has reviewed this action for factors and circumstances in which a normally categorically excluded action may have a significant environmental impact requiring further analysis. The FAA determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010(a) Domestic VOR Federal Airways.

* * * * *

V-55 [Amended]

From Dayton, OH; Fort Wayne, IN; Goshen, IN; Gipper, MI; Keeler, MI; Pullman, MI; Muskegon, MI; INT Muskegon 327° and Green Bay, WI, 116° radials; Green Bay; to INT Green Bay 270° and Oshkosh, WI, 339° radials. From Eau Claire, WI; to Siren, WI. From Park Rapids, MN; Grand Forks, ND; INT Grand Forks 239° and Bismarck, ND, 067° radials; to Bismarck.

* * * * *

V-63 [Amended]

From Bowie, TX; Texoma, OK; McAlester, OK; Razorback, AR; Springfield, MO; Hallsville, MO; Quincy, IL; Burlington, IA; Moline, IL; Davenport, IA; Rockford, IL; Janesville, WI; Badger, WI; to Oshkosh, WI. From Wausau, WI; Rhinelander, WI; to Houghton, MI. Excluding that airspace at and above 10,000 feet MSL from 5 NM north to 46 NM north of Quincy, IL, when the Howard West MOA is active.

* * * * *

V-177 [Amended]

From Joliet, IL; Janesville, WI; to Madison, WI. From Wausau, WI; Hayward, WI; Duluth, MN; to Ely, MN.

* * * * *

V-228 [Amended]

From Dells, WI; Madison, WI; INT Madison 138° and Chicago O'Hare, IL, 316° radials; INT Chicago O'Hare 316° and Northbrook, IL, 291° radials; Northbrook; INT Northbrook 110° and Gipper, MI, 290° radials; to Gipper.

* * * * *

V-246 [Amended]

From Janesville, WI; Dubuque, IA; Waukon, IA; Nodine, MN; to INT Nodine 055° and Eau Claire, WI, 134° radials.

Issued in Washington, DC, on June 13, 2017.
Rodger A. Dean Jr.,
Manager, Airspace Policy Group.

[FR Doc. 2017-12716 Filed 6-20-17; 8:45 am]

BILLING CODE 4910-13-P